DEPARTMENT OF HEALTH AND HUMAN SERVICES

Administration for Children and Families

Submission for OMB Review; Comment Request

Title: Form CB-496, “Title IV-E Programs Quarterly Financial Report”

OMB No.: 0970-0205

Description: This is a financial report submitted following the end of each fiscal quarter by each State or Tribe with an approved title IV-E plan administering any of three title IV-E entitlement grant programs—Foster Care, Adoption Assistance or Guardianship Assistance.

The purpose of this form is to enable each State or Tribe to meet its statutory and regulatory requirement to report program expenditures made in the preceding fiscal quarter and to estimate program expenditures to be made in the upcoming fiscal quarter. This form also allows States and Tribes to report the actual and estimated average monthly number of children assisted in each of the three IV-E entitlement grant programs in the preceding and upcoming fiscal quarters, respectively.

The Administration for Children and Families provides Federal funding at the rate of 50 percent for nearly all allowable and legitimate administrative costs of these programs and at other funding rates for other specific categories of costs as detailed in Federal statute and regulations. The information collected in this report is used by this agency to calculate quarterly Federal grant awards and to enable oversight of the financial management of the programs. Legislation enacted in 2014 through Public Law 113-183, the “Preventing Sex Trafficking and Strengthening Families Act” added a requirement that title IV-E grantees annually report on the methodology used to calculate adoption savings due to the application of differing title IV-E Adoption Assistance eligibility criteria for children designated as an “applicable child” along with an accounting of the amount of and the expenditure of any such savings.

To accommodate this change in the law, we have added additional data entry lines in part 4 of Form CB-496, “Annual Adoption Savings Calculation and Accounting Report” which will be submitted annually by grantees.

In addition, the same law adds additional requirements that title IV-E grantees develop and implement policies and procedures to identify, document, and determine appropriate services for any child or youth in the placement, care or supervision of the title IV-E agency who is at-risk of becoming a sex trafficking victim or who is determined as a sex trafficking victim.

To accommodate this change in the law we have added additional reporting lines and prior quarter reporting odes for expenditure reporting and child counts and in parts 1 and 2 of Form CB-496.

Respondents: States (including Puerto Rico and the District of Columbia) and Tribes* with approved title IV-E plans. (*An estimated 15 Tribes have or will have approved title IV-E plans within the next 3-year period.)

Annual Burden Estimates
Instrument | Number of respondents | Number of responses per respondent | Average burden hours per response | Total burden hours
Form CB-496: Title IV-E Programs Quarterly Financial Report | 67 | 4 | 21 | 5,628

Estimated Total Annual Burden Hours: 5,628.

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-17793 Filed 7-20-15; 8:45 am]

BILLING CODE 4184-01-P